FEDERAL COMMUNICATIONS COMMISSION

47 CFR Part 73

[DA 01-1594; MM Docket No. 01-148; RM-10141]

Television Broadcasting Services; Campbellsville, Bardstown, Kentucky

AGENCY: Federal Communications Commission.

ACTION: Proposed rule.

SUMMARY: The Commission requests comments on a petition for rule making filed by Louisville Communications, LLC (“petitioner”), requesting the reallotment of Television Channel 34 and Digital Television Channel 19 from Campbellsville to Bardstown, Kentucky as the community's first local transmission service. Petitioner is asked to provide additional information in support of the requested reallotment, specifically, an analysis of the Urbanized Areas involved using the Commission's relevant cases, and also provide adequate public interest reasons to justify removal of the community's sole local television service. TV Channel 34 can be reallotted from Campbellsville to Bardstown in compliance with the Commission's minimum distance separation requirements at the petitioner's licensed site, at coordinates 37-31-51 NL and 85-26-45 WL. DTV Channel 19 can be reallotted from Campbellsville to Bardstown in compliance with the Commission's minimum distance separation requirements at petitioner's requested site 25.6 kilometers (15.9 miles) northeast of the community at coordinates 37-56-54 NL and 84-14-4 WL.

DATES: Comments must be filed on or before August 27, 2001, and reply comments on or before September 11, 2001.

ADDRESSES: Secretary, Federal Communications Commission, Washington, DC 20554. In addition to filing comments with the FCC, interested parties should serve the petitioner, as follows: Mark N. Lipp, Tamara Y. Brown, Shook, Hardy and Bacon, 600 14th Street, NW., Suite 800, Washington, DC 20005 (counsel to petitioner).

FOR FURTHER INFORMATION CONTACT: Victoria M. McCauley, Mass Media Bureau, and (202) 418-2180.

SUPPLEMENTARY INFORMATION: This is a synopsis of the Commission's Notice of Proposed Rule Making, MM Docket No. 01-148 adopted June 27, 2001, and released July 6, 2001. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, NW., Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.606 [Amended]

2. Section 73.606(b), the Table of TV Allotments under Kentucky, is amended by removing Campbellsville, Channel 34, and adding Bardstown, Channel 34.

§ 73.622 [Amended]

3. Section 73.622(b), the Table of DTV Allotments under Kentucky, is amended by removing Campbellsville, Channel 19 and adding Bardstown, Channel 19.

Federal Communications Commission.
John A. Karousos,
Chief, Allocations Branch, Policy and Rules Division, Mass Media Bureau.

[FR Doc. 01-17923 Filed 7-17-01; 8:45 am]

BILLING CODE 6712-01-P